DEPARTMENT OF COMMERCE

National Oceanic and Atmospheric Administration

[I.D. 110403A]

Endangered Species; File No. 1418

AGENCY: National Marine Fisheries Service (NMFS), National Oceanic and Atmospheric Administration (NOAA), Commerce.

ACTION: Issuance of permit.

SUMMARY: Notice is hereby given that Lawrence D. Wood, Marinelife Center of Juno Beach, 14200 U.S. Hwy. 1, Juno Beach, FL, 33408, has been issued a permit to take hawksbill sea turtles (Eretmochelys imbricata) for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320.

FOR FURTHER INFORMATION CONTACT: Patrick Opay, (301)713-1401 or Carrie Hubard, (301)713-2289.

SUPPLEMENTARY INFORMATION: On May 20, 2003, notice was published in the Federal Register (68 FR 27535) that a request for a scientific research permit to take hawksbill sea turtles had been submitted by the above-named individual. The requested permit has been issued under the authority of the Endangered Species Act of 1973, as amended (ESA; 16 U.S.C. 1531 et seq.) and the regulations governing the taking, importing, and exporting of endangered and threatened species (50 CFR parts 222-226).

The applicant will hand capture, handle, measure, Passive Integrated Transponder (PIT) and flipper tag, photograph, tissue sample, paint a number on the carapace of, and release up to 75 hawksbill sea turtles annually. Only 6 turtles will be initially marked with the painted number to test the efficacy of the this procedure, and future decisions concerning the value and use of this technique will be based on the results. The purpose of the research is to determine the abundance, distribution and movement patterns of this species. It will also provide growth rate information about these turtles and the researcher will determine the feasibility of photographic identification through unique individual characteristics. The permit duration is 5 years.

Issuance of this permit, as required by the ESA, was based on a finding that such permit (1) was applied for in good faith, (2) will not operate to the disadvantage of the endangered species which is the subject of this permit, and (3) is consistent with the purposes and policies set forth in section 2 of the ESA.

Dated: January 8, 2004.
Stephen L. Leathery,
Chief, Permits, Conservation and Education Division, Office of Protected Resources, National Marine Fisheries Service.

[FR Doc. 04-817 Filed 1-13-04; 8:45 am]

BILLING CODE 3510-22-S